DEPARTMENT OF HEALTH AND HUMAN SERVICES

Food and Drug Administration

[Docket No. FDA-2023-N-0795]

Agency Information Collection Activities; Announcement of Office of Management and Budget Approval; Survey on Quantitative Claims in Direct-to-Consumer Prescription Drug Advertising

AGENCY: Food and Drug Administration, HHS.

ACTION: Notice.

SUMMARY: The Food and Drug Administration (FDA or Agency) is announcing that a collection of information entitled “Electronic Records: Electronic Signatures” has been approved by the Office of Management and Budget (OMB) under the Paperwork Reduction Act of 1995 (PRA).

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: On December 21, 2023, the Agency submitted a proposed collection of information entitled “Survey on Quantitative Claims in Direct-to-Consumer Prescription Drug Advertising” to OMB for review and clearance under 44 U.S.C. 3507. An Agency may not conduct or sponsor, and a person is not required to respond to, a collection of information unless it displays a currently valid OMB control number. OMB has now approved the information collection and has assigned OMB control number 0910-0929. The approval expires on June 30, 2027. A copy of the supporting statement for this information collection is available on the internet at https://www.reginfo.gov/public/do/PRAMain.

Dated: July 17, 2024.
Lauren K. Roth,
Associate Commissioner for Policy.

[FR Doc. 2024-16096 Filed 7-22-24; 8:45 am]

BILLING CODE 4164-01-P